DEPARTMENT OF HEALTH AND HUMAN SERVICES

Centers for Disease Control and Prevention

[60Day-22-20MR; Docket No. CDC-2022-0018]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Leptospirosis and Melioidosis Active Hospital-based Surveillance in Puerto Rico. The project aims to identify leptospirosis and melioidosis cases in Puerto Rico by establishing active surveillance for both diseases at four hospital sites for disease identification and treatment and to improve understanding of leptospirosis and melioidosis epidemiology and ecology in Puerto Rico for public health control and prevention planning.

DATES: CDC must receive written comments on or before April 5, 2022.

ADDRESSES: You may submit comments, identified by Docket No. CDC-2022-0018 by either of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Leptospirosis and Melioidosis Active Hospital-based Surveillance in Puerto Rico—Existing Collection in Use Without an OMB Control Number—National Center for Emerging and Zoonotic Infectious Diseases (NCEZID), Centers for Disease Control and Prevention (CDC).

Background and Brief Description

This project aims to identify leptospirosis and melioidosis cases in Puerto Rico by establishing active surveillance for both diseases at four hospital sites for timely disease identification and treatment and to improve understanding of leptospirosis and melioidosis epidemiology and ecology in Puerto Rico for public health control and prevention planning. Both diseases can cause outbreaks after hurricanes and flooding, especially in tropical areas, and this project is being conducted in response to an increase in leptospirosis cases after Hurricanes Irma and Maria in 2017.

Participants will be recruited from the population presenting to the emergency department of the four hospital sites with febrile illness, and will be interviewed to gather information on symptoms, possible exposures, and medical history, in addition to having diagnostic samples collected to test for leptospirosis plus or minus melioidosis (depending on presenting symptoms). Participants will also be interviewed approximately two weeks after enrollment to determine illness progression and outcome. Patients testing positive for leptospirosis, if willing, may have animal samples taken from their home or work environments to help determine the animal reservoirs related to human leptospirosis illness in Puerto Rico.

CDC requests OMB approval for an estimated 1,675 annual burden hours. There is no cost to respondents other than their time to participate.

Estimated Annualized Burden Hours
Type of respondents | Form name | Number of respondents | Number of responses per respondent | Average burden per response (in hours) | Total burden (in hours)
Patient | PIFA (screening) | Up to 7,000 | 1 | 5/60 | 583
Patient | PIFA (full form: sections 1-4, 11) | Up to 3,000 | 1 | 10/60 | 500
Patient | Consent Form | Up to 3,000 | 1 | 6/60 | 300
Patient | PIFF | Up to 1,000 | 1 | 10/60 | 167
Patient | Animal Household Survey | Up to 250 | 1 | 30/60 | 125
Total |  |  |  |  | 1,675

Jeffrey M. Zirger,
Lead, Information Collection Review Office, Office of Scientific Integrity, Office of Science, Centers for Disease Control and Prevention.

[FR Doc. 2022-02404 Filed 2-3-22; 8:45 am]

BILLING CODE 4163-18-P